DEPARTMENT OF JUSTICE

Drug Enforcement Administration

[Docket No. DEA-392]

Manufacturer of Controlled Substances Registration: Chemtos, LLC

ACTION: Notice of registration.

SUMMARY: Chemtos, LLC applied to be registered as a manufacturer of certain basic classes of controlled substances. The Drug Enforcement Administration (DEA) grants Chemtos, LLC registration as a manufacturer of those controlled substances.

SUPPLEMENTARY INFORMATION: By notice dated September 16, 2015, and published in the Federal Register on September 23, 2015, 80 FR 57389, Chemtos, LLC, 14101 W. Highway 290, Building 2000B, Austin, Texas 78737-9331 applied to be registered as a manufacturer of certain basic classes of controlled substances. No comments or objections were submitted for this notice.

The DEA has considered the factors in 21 U.S.C. 823(a) and determined that the registration of Chemtos, LLC to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the following basic classes of controlled substances:

Controlled substance | Schedule
Marihuana (7360) | I
Amphetamine (1100) | II
Methamphetamine (1105) | II
Lisdexamfetamine (1205) | II
Methylphenidate (1724) | II
Nabilone (7379) | II
Phenylacetone (8501) | II
Cocaine (9041) | II
Codeine (9050) | II
Etorphine HCI (9059) | II
Dihydrocodeine (9120) | II
Oxycodone (9143) | II
Hydromorphone (9150) | II
Ecgonine (9180) | II
Ethylmorphine (9190) | II
Hydrocodone (9193) | II
Levomethorphan (9210) | II
Levorphanol (9220) | II
Isomethadone (9226) | II
Meperidine (9230) | II
Meperidine intermediate-A (9232) | II
Meperidine intermediate-B (9233) | II
Meperidine intermediate-C (9234) | II
Methadone (9250) | II
Methadone intermediate (9254) | II
Morphine (9300) | II
Thebaine (9333) | II
Dihydroetorphine (9334) | II
Levo-alphacetylmethadol (9648) | II
Oxymorphone (9652) | II
Racemethorphan (9732) | II
Racemorphan (9733) | II

The company plans to manufacture small quantities of the listed controlled substances in bulk for distribution to its customers for use as reference standards.

Dated: February 16, 2016.
Louis J. Milione,
Deputy Assistant Administrator.

[FR Doc. 2016-03856 Filed 2-23-16; 8:45 am]

BILLING CODE 4410-09-P